DEPARTMENT OF TRANSPORTATION

Federal Aviation Administration

14 CFR Part 39

[Docket No. FAA-2018-0957; Product Identifier 2018-NM-102-AD; Amendment 39-19570; AD 2019-03-18]

RIN 2120-AA64

Airworthiness Directives; Airbus SAS Airplanes

AGENCY: Federal Aviation Administration (FAA), Department of Transportation (DOT).

ACTION: Final rule.

SUMMARY: We are adopting a new airworthiness directive (AD) for all Airbus SAS Model A318-111, -112, -121, and -122 airplanes; Model A319-111, -112, -113, -114, -115, -131, -132, and -133 airplanes; and Model A320-211, -212, -214, -216, -231, -232, and -233 airplanes. This AD was prompted by reports of cracks that were found after improperly performed magnetic particle inspections of the main landing gear (MLG) sliding tubes were done. This AD requires repetitive general visual inspections of the affected MLG sliding tubes for cracks and replacement if necessary. We are issuing this AD to address the unsafe condition on these products.

DATES: This AD is effective April 9, 2019.

The Director of the Federal Register approved the incorporation by reference of a certain publication listed in this AD as of April 9, 2019.

ADDRESSES: For service information identified in this final rule, contact Airbus, Airworthiness Office—EIAS, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2018-0957.

Examining the AD Docket

You may examine the AD docket on the internet at http://www.regulations.gov by searching for and locating Docket No. FAA-2018-0957; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 by adding an AD that would apply to all Airbus SAS Model A318-111, -112, -121, and -122 airplanes; Model A319-111, -112, -113, -114, -115, -131, -132, and -133 airplanes; and Model A320-211, -212, -214, -216, -231, -232, and -233 airplanes. The NPRM published in the Federal Register on November 8, 2018 (83 FR 55833). The NPRM was prompted by reports of cracks that were found after improperly performed magnetic particle inspections of the MLG sliding tubes were done. The NPRM proposed to require repetitive general visual inspections of the affected MLG sliding tubes for cracks and replacement if necessary.

The European Aviation Safety Agency (EASA), which is the Technical Agent for the Member States of the European Union, has issued EASA AD 2018-0136, dated June 26, 2018 (referred to after this as the Mandatory Continuing Airworthiness Information, or “the MCAI”), to correct an unsafe condition for all Airbus SAS Model A318-111, -112, -121, and -122 airplanes; Model A319-111, -112, -113, -114, -115, -131, -132, and -133 airplanes; and Model A320-211, -212, -214, -216, -231, -232, and -233 airplanes. The MCAI states:

During a walk-around inspection, prior to aeroplane dispatch, an A320 MLG was found collapsed. Investigation revealed that, following a magnetic particle inspection of the MLG sliding tube, performed improperly during overhaul, cracks were initiated, eventually leading to fatigue fracture. A limited number of MLG sliding tubes have been identified that may have been subject to the same improper inspection during the last overhaul.

This condition, if not detected and corrected, could lead to MLG sliding tube fracture, possibly resulting in MLG collapse, damage to the aeroplane, and injury to occupants.

To address this potential unsafe condition, Airbus issued the SB [Service Bulletin A320-32-1461], providing instructions for repetitive general visual inspections (GVI) of the affected parts until next overhaul.

For the reasons described above, this [EASA] AD requires repetitive GVI of the affected parts [for cracks] and, depending on findings, replacement.

You may examine the MCAI in the AD docket on the internet at http://www.regulations.gov by searching for and locating Docket No. FAA-2018-0957.

Comments

We gave the public the opportunity to participate in developing this final rule. We have considered the comments received.

Support for the NPRM

Air Line Pilots Association, International (ALPA) stated that it supports the NPRM. Another commenter, Kolby Brown, indicated support for the NPRM.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus has issued Service Bulletin A320-32-1461, dated April 11, 2018. This service information describes procedures for repetitive general visual inspections of affected MLG sliding tubes for cracks and replacement of affected MLG sliding tubes. This service information is reasonably available because the interested parties have access to it through their normal course of business or by the means identified in the ADDRESSES section.

Costs of Compliance

We estimate that this AD affects 817 airplanes of U.S. registry. We estimate the following costs to comply with this AD:

Estimated Costs for Required Actions *
Labor cost | Parts cost | Cost per product | Cost on U.S. operators
Up to 2 work-hours × $85 per hour = $170 | $0 | Up to $170 | Up to $138,890.
* Table does not include estimated costs for reporting.

We estimate that it would take about 1 work-hour per product to comply with the reporting requirement in this AD. The average labor rate is $85 per hour. Based on these figures, we estimate the cost of reporting the inspection results on U.S. operators to be $9,945, or $85 per product.

We estimate the following costs to do any necessary on-condition actions that would be required based on the results of any required actions. We have no way of determining the number of aircraft that might need these on-condition actions:

Estimated Costs of On-Condition Actions
Labor cost | Parts cost | Cost per product
19 work-hours × $85 per hour = $1,615 | $185 | $1,800

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-03-18 Airbus SAS: Amendment 39-19570; Docket No. FAA-2018-0957; Product Identifier 2018-NM-102-AD.

(a) Effective Date

This AD is effective April 9, 2019.

(b) Affected ADs

None.

(c) Applicability

This AD applies to Airbus SAS Model A318-111, -112, -121, and -122 airplanes; Model A319-111, -112, -113, -114, -115, -131, -132, and -133 airplanes; and Model A320-211, -212, -214, -216, -231, -232, and -233 airplanes, certificated in any category, all manufacturer serial numbers.

(d) Subject

Air Transport Association (ATA) of America Code 32, Landing Gear.

(e) Reason

This AD was prompted by reports of cracks that were found after improperly performed magnetic particle inspections of the main landing gear (MLG) sliding tubes were done. We are issuing this AD to address this condition, which could result in fracture of the MLG sliding tube, possibly resulting in MLG collapse, damage to the airplane, and injury to occupants.

(f) Compliance

Comply with this AD within the compliance times specified, unless already done.

(g) Definitions

For the purposes of this AD, the definitions specified in paragraphs (g)(1) and (g)(2) of this AD apply.

(1) An affected part is any MLG sliding tube, having a part number (P/N) and serial number (S/N) listed in Figure 1 to paragraph (g)(1) of this AD, that has been last overhauled between October 27, 2003, and September 21, 2009, inclusive.

(2) Group 1 airplanes are those that have an affected part installed. Group 2 airplanes are those that do not have an affected part installed.

(h) Repetitive Inspections

For Group 1 airplanes: Within 500 flight cycles after the effective date of this AD, and, thereafter, at intervals not to exceed 500 flight cycles, accomplish a general visual inspection for cracks of each affected part, in accordance with the Accomplishment Instructions of Airbus Service Bulletin A320-32-1461, dated April 11, 2018.

(i) Corrective Action

If any crack is found during any inspection required by paragraph (h) of this AD: Before further flight, replace the affected part, in accordance with the Accomplishment Instructions of Airbus Service Bulletin A320-32-1461, dated April 11, 2018.

(j) Terminating Action for Certain Actions Required by Paragraph (h) of This AD

Accomplishment of an overhaul of an affected part after September 21, 2009, constitutes terminating action for the repetitive general visual inspections required by paragraph (h) of this AD for that affected part.

(k) Reporting

Submit a report of findings (both positive and negative) of the inspections specified in paragraph (h) of this AD to Airbus, in accordance with Airbus Service Bulletin A320-32-1461, dated April 11, 2018, at the applicable time specified in paragraph (k)(1) or (k)(2) of this AD. If operators have reported findings as part of obtaining any corrective actions approved by Airbus SAS's European Aviation Safety Agency (EASA) Design Organization Approval (DOA), operators are not required to report those findings as specified in this paragraph.

(1) If the inspection was done on or after the effective date of this AD: Submit the report within 30 days after the inspection.

(2) If the inspection was done before the effective date of this AD: Submit the report within 30 days after the effective date of this AD.

(l) Exception to Paragraphs (h) and (i) of This AD

An airplane embodying Airbus Modification 161202 (Evolution (EV) MLG) is not affected by the requirements of paragraphs (h) and (i) of this AD, provided it is determined that no affected parts are installed on that airplane. A review of airplane delivery and/or maintenance records is acceptable to make this determination, provided those records can be relied upon for that purpose and the part number and serial number of the MLG sliding tube can be positively identified from that review.

(m) Parts Installation

(1) For Group 1 airplanes: From the effective date of this AD, it is allowed to install on any airplane an affected part, or an MLG equipped with an affected part, provided that, within the last 500 flight cycles before installation, the part passed an inspection specified in paragraph (h) of this AD, and that, following installation, the part is inspected as required by this AD.

(2) For Group 2 airplanes: From the effective date of this AD, do not install on any airplane an affected part.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by The Manager, International Section, Transport Standards Branch, FAA; or EASA; or Airbus SAS's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(o) Related Information

(1) Refer to Mandatory Continuing Airworthiness Information (MCAI) EASA AD 2018-0136, dated June 26, 2018, for related information. This MCAI may be found in the AD docket on the internet at http://www.regulations.gov by searching for and locating Docket No. FAA-2018-0957.

(2) For more information about this AD, contact Sanjay Ralhan, Aerospace Engineer, International Section, Transport Standards Branch, FAA, 2200 South 216th St., Des Moines, WA 98198; telephone and fax 206-231-3223.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-32-1461, dated April 11, 2018.

(ii) [Reserved]

(3) For service information identified in this AD, contact Airbus, Airworthiness Office—EIAS, 1 Rond Point Maurice Bellonte, 31707 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on February 14, 2019.
Michael Kaszycki,
Acting Director, System Oversight Division, Aircraft Certification Service.

[FR Doc. 2019-03414 Filed 3-4-19; 8:45 am]

BILLING CODE 4910-13-P